INTERNATIONAL TRADE COMMISSION

[Investigation Nos. 701-TA-683 and 731-TA-1594-1596 (Final)]

Paper File Folders From China, India, and Vietnam

Determinations

On the basis of the record ¹ developed in the subject investigations, the United States International Trade Commission (“Commission”) determines, pursuant to the Tariff Act of 1930 (“the Act”), that an industry in the United States is materially injured by reason of imports of paper file folders from China, India, and Vietnam, provided for in subheading 4820.30.00 of the Harmonized Tariff Schedule of the United States, that have been found by the U.S. Department of Commerce (“Commerce”) to be sold in the United States at less than fair value (“LTFV”), and to be subsidized by the government of India.²

¹ The record is defined in § 207.2(f) of the Commission's Rules of Practice and Procedure (19 CFR 207.2(f)).

² 88 FR 69130, 88 FR 69134, 88 FR 69138, and 88 FR 69141, October 5, 2023.

Background

The Commission instituted these investigations, effective October 12, 2022, following receipt of petitions filed with the Commission and Commerce by the Coalition of Domestic Folder Manufacturers, Hastings, Minnesota and Naperville, Illinois. The final phase of the investigations was scheduled by the Commission following notification of preliminary determinations by Commerce that imports of paper file folders from India were subsidized within the meaning of section 703(b) of the Act (19 U.S.C. 1671b(b)) and imports of paper file folders from China, India, and Vietnam were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 8, 2023 (88 FR 37579). The public hearing in connection with the investigations, originally scheduled for October 3, 2023, was cancelled.³

³ 88 FR 68670, October 4, 2023.

The Commission made these determinations pursuant to §§ 705(b) and 735(b) of the Act (19 U.S.C. 1671d(b) and 19 U.S.C. 1673d(b)). It completed and filed its determinations in these investigations on November 13, 2023. The views of the Commission are contained in USITC Publication 5472 (November 2023), entitled Paper File Folders from China, India, and Vietnam: Investigation Nos. 701-TA-683 and 731-TA-1594-1596 (Final).

By order of the Commission.
Issued: November 13, 2023.
Lisa Barton,
Secretary to the Commission.

[FR Doc. 2023-25331 Filed 11-15-23; 8:45 am]

BILLING CODE 7020-02-P